ENVIRONMENTAL PROTECTION AGENCY

[EPA-HQ-OPP-2012-0906; FRL-9905-60]

Pesticides; Final Guidance for Pesticide Registrants on Web-Distributed Labeling

AGENCY: Environmental Protection Agency (EPA).

ACTION: Notice of availability.

SUMMARY: The Agency is announcing the availability of a Pesticide Registration Notice (PR Notice) titled “Web-Distributed Labeling for Pesticide Products.” This PR Notice was issued by the Agency on March 24, 2014, and is identified as PR Notice 2014-1. PR Notices are issued by the Office of Pesticide Programs (OPP) to inform pesticide registrants and other interested persons about important policies, procedures, and registration related decisions, and serve to provide guidance to pesticide registrants and OPP personnel. This particular PR Notice provides guidance to the registrant concerning the process by which registrants can make legally-valid versions of pesticide labeling available through the Internet. Web-distributed labeling would allow users to retrieve a streamlined version of the pesticide product labeling, containing the directions for use and necessary information related to the user's specific state and intended site of use.

FOR FURTHER INFORMATION CONTACT: Michelle Arling, Field & External Affairs Division (7506P), Office of Pesticide Programs, Environmental Protection Agency, 1200 Pennsylvania Ave. NW., Washington, DC 20460-0001; telephone number: (703) 308-5891; email address: arling.michelle@epa.gov.

SUPPLEMENTARY INFORMATION:

I. General Information

A. Does this action apply to me?

This action is directed to the public in general, although this action may be of particular interest to those persons who register and use pesticide products and to state regulators of pesticide products. Since other entities may also be interested, the Agency has not attempted to describe all the specific entities that may be affected by this action.

B. How can I get copies of this document and other related information?

The docket for this action, identified by docket identification (ID) number EPA-HQ-OPP-2012-0906, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What guidance does this PR Notice provide?

This final PR Notice provides guidance to the registrant concerning how EPA intends to implement web-distributed labeling under this voluntary system. Shorter, relevant labeling could be clearer and easier for the user to understand, improving compliance with pesticide labeling requirements and thereby protecting human health and the environment from unintentional misuse of pesticides. Web-distributed labeling would also allow for more rapid updates to pesticide labeling, meaning risk mitigation measures and new uses can reach the user more quickly than under the current paper-based system. First, the PR Notice defines terms used related to web-distributed labeling in this notice. It includes suggested language that registrants can use on the labeling affixed to or accompanying the pesticide container to reference the web-distributed labeling portion of labeling. It recommends content, function, and security for the Web site associated with a product's web-distributed labeling. Finally, the PR Notice suggests a process by which registrants can request that a product's labeling include web-distributed labeling and outlines what information EPA expects to receive.

III. Do PR Notices contain binding requirements?

The PR Notice discussed in this notice is intended to provide guidance to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

Authority: 7 U.S.C. 136-136y.

List of Subjects

Environmental protection, Administrative practice and procedure, Agricultural commodities, Pesticides and pests.

Dated: March 24, 2014.
Marty Monell,
Acting Director, Office of Pesticide Programs.

[FR Doc. 2014-07458 Filed 4-3-14; 8:45 am]

BILLING CODE 6560-50-P